DEPARTMENT OF COMMERCE

International Trade Administration

Initiation of Antidumping and Countervailing Duty Administrative Reviews and Request for Revocation in Part

AGENCY: Import Administration, International Trade Administration, Department of Commerce

ACTION: Notice of Initiation of Antidumping and Countervailing Duty Administrative Reviews and Request for Revocation in Part

SUMMARY: The Department of Commerce has received requests to conduct administrative reviews of various antidumping and countervailing duty orders and findings with June anniversary dates. In accordance with the Department's regulations, we are initiating those administrative reviews. The Department also received a request to revoke two antidumping duty orders in part.

EFFECTIVE DATE: July 27, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with June anniversary dates. The Department also received timely requests to revoke in part the antidumping duty orders on Folding Metal Tables and Chairs from the People's Republic of China and Tapered Roller Bearings and Parts Thereof, Finished and Unfinished from the People's Republic of China.

Initiation of Reviews:

In accordance with section 19 CFR 351.221(c)(1)(i), we are initiating administrative reviews of the following antidumping and countervailing duty orders and findings. We intend to issue the final results of these reviews not later than June 30, 2007.

Antidumping Duty Proceedings | Period to be Reviewed
JAPAN: Certain Large Diameter Carbon and Alloy Seamless Standard, Line and Pressure Pipe
A-588-850 | 06/01/05 - 05/31/06
JFE Steel Corporation
Nippon Steel Corporation
NKK Tubes
Sumitomo Metal Industries, Ltd
SOUTH KOREA: Polyethylene Terephthalate (Pet) Film
A-580-807 | 06/01/05 - 05/31/06
Kohap, Ltd
SPAIN: Chlorinated Isocyanurates
A-469-814 | 12/20/04 - 05/31/06
Aragonesas Industrias y Energia/Aragonesas Delsa S.A.
TAIWAN: Certain Stainless Steel Butt-Weld Pipe Fittings
A-583-816 | 06/01/05 - 05/31/06
Ta Chen Stainless Steel Pipe Co., Ltd
THE PEOPLE'S REPUBLIC OF CHINA: Chlorinated Isocyanurates¹
A-570-898 | 12/16/04 - 05/31/06
Hebei Jiheng Chemical Co., Ltd
THE PEOPLE'S REPUBLIC OF CHINA: Folding Metal Tables and Chairs²
A-570-868 | 06/01/05 - 05/31/06
DongGuan ShiChang Metals Factory Ltd./Maxchief Investments, Ltd
Feili Furniture Development Limited Quanzhou City
Feili Furniture Development Co., Ltd
Feili Group (Fujian) Co., Ltd
Feili (Fujian) Co., Ltd
New-Tec Integration (Xiamen) Co., Ltd
THE PEOPLE'S REPUBLIC OF CHINA: Tapered Roller Bearings
A-570-601 | 06/01/05 - 05/31/06
Chin Jun Industrial Ltd
Hebei Longsheng Metals & Minerals Trade Co., Ltd
Peer Bearing Company-Changshan
Yantai Timken Company Limited
Countervailing Duty Proceedings
None
Suspension Agreements
None
¹ If one of the above named companies does not qualify for a separate rate, all other exporters of Chlorinated Isocyanurates from the People's Republic of China who have not qualified for a separate rate are deemed to be covered by this review as part of the single PRC entity of which the named exporter is a part.
² If one of the above named companies does not qualify for a separate rate, all other exporters of Folding Metal Tables and Chairs from the People's Republic of China who have not qualified for a separate rate are deemed to be covered by this review as part of the single PRC entity of which the named exporter is a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consist with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: July 19, 2006.
Thomas F. Futtner,
Acting Office Director, AD/CVD Operations, Office 4, Import Administration.

[FR Doc. E6-11973 Filed 7-26-06; 8:45 am]

BILLING CODE: 3510-DS-S